ENVIRONMENTAL PROTECTION AGENCY

40 CFR Part 300

[EPA-HQ-OLEM-2021-0486; EPA-HQ-OLEM-2022-0828; EPA-HQ-OLEM-2022-0854; EPA-HQ-OLEM-2022-0947; EPA-HQ-OLEM-2022-0948; EPA-HQ-OLEM-2022-0949; EPA-HQ-OLEM-2022-0964; EPA-HQ-OLEM-2022-0965; EPA-HQ-OLEM-2022-0966; EPA-HQ-OLEM-2022-0968; EPA-HQ-OLEM-2023-0021; and FRL-10633-02-OLEM]

Deletion From the National Priorities List

AGENCY: Environmental Protection Agency (EPA).

ACTION: Final rule.

SUMMARY: The Environmental Protection Agency (EPA) announces the deletion of three sites and the partial deletion of eight sites from the Superfund National Priorities List (NPL). The NPL, created under the Comprehensive Environmental Response, Compensation, and Liability Act (CERCLA) of 1980, as amended, is an appendix of the National Oil and Hazardous Substances Pollution Contingency Plan (NCP). The EPA and the states, through their designated State agencies, have determined that all appropriate response actions under CERCLA have been completed. However, this deletion does not preclude future actions under Superfund.

DATES: The document is effective August 16, 2023.

ADDRESSES: Docket: EPA has established a docket for this action under the Docket Identification included in Table 1 in the SUPPLEMENTARY INFORMATION section of this document. All documents in the docket are listed on the https://www.regulations.gov website. The Final Close-Out Report (FCOR, for a full site deletion) or the Partial Deletion Justification (PDJ, for a partial site deletion) is the primary document which summarizes site information to support the deletion. It is typically written for a broad, non-technical audience and this document is included in the deletion docket for each of the sites in this rulemaking. Although listed in the index, some information is not publicly available, i.e., Confidential Business Information or other information whose disclosure is restricted by statute. Certain other material, such as copyrighted material, is not placed on the internet and will be publicly available only in hard copy form. Docket materials are available through https://www.regulations.gov or at the corresponding Regional Records Centers. Locations, addresses, and phone numbers-of the Regional Records Center follows.

• Region 2 (NJ, NY, PR, VI), U.S. EPA, 290 Broadway, New York, NY 10007-1866; 212/637-4308.

• Region 3 (DE, DC, MD, PA, VA, WV), U.S. EPA, 1600 John F. Kennedy Boulevard, Mail code 3MD50, Philadelphia, PA 19103; 215/814-5382.

• Region 4 (AL, FL, GA, KY, MS, NC, SC, TN), U.S. EPA, 61 Forsyth Street SW, Mail code 9T25, Atlanta, GA 30303.

• Region 5 (IL, IN, MI, MN, OH, WI), U.S. EPA Superfund Division Records Manager, Mail code SRC-7J, Metcalfe Federal Building, 7th Floor South, 77 West Jackson Boulevard, Chicago, IL 60604; 312/886-4465.

• Region 7 (IA, KS, MO, NE), U.S. EPA, 11201 Renner Blvd., Lenexa, KS 66219; 913/551-7079.

• Region 8 (CO, MT, ND, SD, UT, WY), U.S. EPA, 1595 Wynkoop Street, Mail code Records Center, Denver, CO 80202-1129; 303/312-7273.

• EPA Headquarters Docket Center Reading Room (deletion dockets for all states), William Jefferson Clinton (WJC) West Building, Room 3334, 1301 Constitution Avenue NW, Washington, DC 20004, (202) 566-1744.

EPA staff listed below in the FOR FURTHER INFORMATION CONTACT section may assist the public in answering inquiries about deleted sites and accessing deletion support documentation, determining whether there are additional physical deletion dockets available.

FOR FURTHER INFORMATION CONTACT:

• Mabel Garcia, U.S. EPA Region 2 (NJ, NY, PR, VI), garcia.mabel@epa.gov, 212/637-4356.

• Andrew Hass, U.S. EPA Region 3 (DE, DC, MD, PA, VA, WV), hass.andrew@epa.gov, 215/814-2049.

• Leigh Lattimore, U.S. EPA Region 4 (AL, FL, GA, KY, MS, NC, SC, TN), lattimore.leigh@epa.gov, 404/562-8768.

• Karen Cibulskis, U.S. EPA Region 5 (IL, IN, MI, MN, OH, WI), cibulskis.karen@epa.gov, 312/886-1843.

• Maria Morey, U.S. EPA Region 7 (IA, KS, MO, NE), morey.maria@epa.gov, 913/551-7079.

• Linda Kiefer, U.S. EPA Region 8 (CO, MT, ND, SD, UT, WY), kiefer.linda@epa.gov, 303/312-6689.

• Charles Sands, U.S. EPA Headquarters, sands.charles@epa.gov, 202-566-1142.

SUPPLEMENTARY INFORMATION: The NPL, created under section 105 of CERCLA, as amended, is an appendix of the NCP. The NCP establishes the criteria that EPA uses to delete sites from the NPL. In accordance with 40 CFR 300.425(e), sites may be deleted from the NPL where no further response is appropriate. Partial deletion of sites is in accordance with 40 CFR 300.425(e) and are consistent with the Notice of Policy Change: Partial Deletion of Sites Listed on the National Priorities List, 60 FR 55466, (November 1, 1995). The sites to be deleted are listed in Table 1, including docket information containing reference documents with the rationale and data principally relied upon by the EPA to determine that the Superfund response is complete. The NCP permits activities to occur at a deleted site, or that media or parcel of a partially deleted site, including operation and maintenance of the remedy, monitoring, and five-year reviews. These activities for the site are entered in Table 1 in this SUPPLEMENTARY INFORMATION section, if applicable, under Footnote such that; 1= site has continued operation and maintenance of the remedy, 2= site receives continued monitoring, and 3= site five-year reviews are conducted. As described in 40 CFR 300.425(e)(3) of the NCP, a site or portion of a site deleted from the NPL remains eligible for Fund-financed remedial action if future conditions warrant such actions.

Table 1
Site name | City/county, state | Type | Docket No. | Footnote
Haviland Complex | Town of Hyde Park, NY | Full | EPA-HQ-OLEM-2022-0968
Smithtown Ground Water Contamination | Smithtown, NY | Full | EPA-HQ-OLEM-2022-0964
Jackson Ceramix | Falls Creek, PA | Partial | EPA-HQ-OLEM-2022-0854
Fort Hartford Coal Co. Stone Quarry | Olaton, KY | Full | EPA-HQ-OLEM-2022-0948 | 1, 2, 3.
Marine Corps Logistics Base | Albany, GA | Partial | EPA-HQ-OLEM-2021-0486
Redstone Arsenal (USARMY/NASA) | Huntsville, AL | Partial | EPA-HQ-OLEM-2022-0949 | 1, 3.
Tyndall Air Force Base | Panama City, FL | Partial | EPA-HQ-OLEM-2022-0947
Aircraft Components (D & L Sales) | Benton Harbor, MI | Partial | EPA-HQ-OLEM-2022-0828
Omaha Lead | Omaha, NE | Partial | EPA-HQ-SFUND-2023-0021 | 1, 3.
Anaconda Co. Smelter | Anaconda, MT | Partial | EPA-HQ-OLEM-2022-0965 | 1, 3.
Eagle Mine | Minturn/Redcliff, CO | Partial | EPA-HQ-OLEM-2022-0966 | 1, 3.

Information concerning the sites to be deleted and partially deleted from the NPL, the proposed rule for the deletion and partial deletion of the sites, and information on receipt of public comment(s) and preparation of a Responsiveness Summary (if applicable) are included in Table 2.

Table 2
Site name | Date, proposed rule | FR citation | Public comment | Responsiveness summary | Full site deletion (full) or media/parcels/ description for partial deletion
Haviland Complex | 2/22/2023 | 88 FR 10864 | Yes | Yes | Full.
Smithtown Ground Water Contamination | 2/22/2023 | 88 FR 10864 | No | No | Full.
Jackson Ceramix | 2/22/2023 | 88 FR 10864 | No | No | Soils and unsaturated subsurface vadose zones from OU 1 Baseball Field.
Fort Hartford Coal Co. Stone Quarry | 2/22/2023 | 88 FR 10864 | No | No | Full.
Marine Corps Logistics Base | 2/22/2023 | 88 FR 10864 | Yes | Yes | OU 3 Soils.
Redstone Arsenal (USARMY/NASA) | 2/22/2023 | 88 FR 10864 | No | No | Soils and pipeline sediments from OU-26.
Tyndall Air Force Base | 2/22/2023 | 88 FR 10864 | Yes | No | 13 specified operable units.
Aircraft Components (D & L Sales) | 2/22/2023 | 88 FR 10864 | Yes | No | OU 1 radiological cleanup.
Omaha Lead | 2/22/2023 | 88 FR 10864 | No | No | 13 residential properties.
Anaconda Co. Smelter | 2/22/2023 | 88 FR 10864 | No | No | OU 15 Mill Creek.
Eagle Mine | 2/22/2023 | 88 FR 10864 | Yes | Yes | 5.31 acres of soils in the OU 3 North Property Redevelopment—Trestle Area.

For the sites proposed for deletion, the closing date for comments in the proposed rule was March 24, 2023. EPA received no public comment on six sites proposed for deletion or partial deletion from the NPL. The EPA received public comments on five sites: Tyndall Air Force Base, Havilland Complex, Marine Corps Logistics Base, Aircraft Components (D & L Sales), and Eagle Mine. Tyndall Air Force Base received two public comments; one supportive of the proposed deletion and one comment which was not germane to the proposed deletion. No Responsiveness Summary was prepared. Aircraft Components (D & L Sales) received two public comments from one submitter. The first comment was not adverse to the proposed deletion and the second comment requested EPA remove some of the comment information previously submitted. EPA attempted to contact the commentor, who did not respond. EPA documented the actions in a memo which is included with the docket. The Havilland Complex site received one public comment which acknowledged that collaboration between the state and EPA is essential to protect human health and the environment and recommended that review of sites should be conducted more often than every five years. EPA prepared a Responsiveness Summary indicating there was frequent collaboration with the state and that the established five-year review period is mandated by statute. The Marine Corps Logistics Base site received one public comment with no specific site concerns, which acknowledged that collaboration between the state, U.S. Navy and EPA is essential to protect human health and the environment and recommended that review of sites should be conducted more often than every five years. EPA prepared a Responsiveness Summary indicating there was frequent collaboration among the parties and that the established five-year review period is mandated by statute. The Eagle Mine site received two public comments. One commentor supports the deletion but has issue with who is stated as the property owner. A second commentor stated ecological risks have not been evaluated and potential future residents would not feel safe. The second commenter also stated that field data verified by the purchaser's contractor is a conflict of interest therefore a third party should verify the data, and that the purchaser cannot be trusted to assure the area remains protective as the site will always grapple with contamination. EPA prepared a Responsiveness Summary addressing the concerns in the comments. EPA recognizes the property owner of record for the site as determined in an August 2018 Colorado Court of Appeals ruling. EPA also indicated an ecological assessment was conducted. All work conducted by the purchaser and their contractors is overseen by both the EPA and State under an Administrative Order of Consent. EPA placed the public comments, memo and the Responsiveness Summaries in the docket specified in Table 1, on https://www.regulations.gov, and in the appropriate Regional Records Center listed in the ADDRESSES section. Thus, EPA concluded for all sites that no action is warranted under CERCLA, and the sites can be deleted from the NPL.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Larry Douchand,
Office Director, Office of Superfund Remediation and Technology Innovation.

For reasons set out in the preamble, the EPA amends 40 CFR part 300 as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. In appendix B to part 300:

a. Amend table 1 by:

i. Removing the entry for “KY, Fort Hartford Coal Co. Stone Quarry, Olaton”;

ii. Revising the entry for “MI, Aircraft Components (D & L Sales), Benton Harbor”;

iii. Removing the entry for “NY”, “Havilland Complex”, “Town of Hyde Park”;

iv. Removing the entry for “NY, Smithtown Ground Water Contamination, Smithtown”; and

v. Revising the entry for “PA, Jackson Ceramix, Falls Creek”; and

b. Amend table 2 by:

i. Revising the entry for “FL, Tyndall Air Force Base, Panama City”; and

ii. Revising the entry for “GA, Marine Corps Logistics Base, Albany”.

The revisions read as follows:

Appendix B to Part 300—National Priorities List

Table 1—General Superfund Section
State | Site name | City/county | Notes (a)
* * * * * * *
MI | Aircraft Components (D & L Sales) | Benton Harbor | P
* * * * * * *
PA | Jackson Ceramix | Falls Creek | P
* * * * * * *
Notes:
* * * * * * *
P = Sites with partial deletion(s).

Table 2—Federal Facilities Section
State | Site name | City/county | Notes (a)
* * * * * * *
FL | Tyndall Air Force Base | Panama City | P
* * * * * * *
GA | Marine Corps Logistics Base | Albany | P
* * * * * * *
Notes:
* * * * * * *
P = Sites with partial deletion(s).

[FR Doc. 2023-17434 Filed 8-15-23; 8:45 am]

BILLING CODE 6560-50-P